ENVIRONMENTAL PROTECTION AGENCY

[FRL-8553-2]

Science Advisory Board Staff Office; Clean Air Scientific Advisory Committee (CASAC); Notification of a Public Advisory Committee Meeting of the CASAC Oxides of Nitrogen Primary NAAQS Review Panel and Public Teleconference of the CASAC

AGENCY: Environmental Protection Agency (EPA).

ACTION: Notice.

SUMMARY: The Environmental Protection Agency (EPA) Science Advisory Board (SAB) Staff Office announces a public meeting of the Clean Air Scientific Advisory Committee's (CASAC) Oxides of Nitrogen Primary NAAQS Review Panel (Panel) to conduct a peer review of EPA's Integrated Science Assessment for Oxides of Nitrogen—Health Criteria (Second External Review Draft) (EPA/600/R-07/093aB and EPA/600/R-07/903bB, March 2008) and to conduct a review of the EPA's Risk and Exposure Assessment to Support the Review of the NO2 Primary National Ambient Air Quality Standard: First Draft and Risk and Exposure Assessment to Support the Review of the NO2 Primary National Ambient Air Quality Standard: Draft Technical Support Document (TSD). The chartered CASAC will review and approve the Panel's report by teleconference.

DATES: The meeting will be held from 8:30 a.m. (Eastern Time) on Thursday, May 1, 2008 through 2 p.m. (Eastern Time) on Friday, May 2, 2008. The chartered CASAC will meet by public teleconference from 3 p.m. to 5 p.m. on June 11, 2008 (Eastern Time).

Location: The May 1-2, 2008 meeting will take place at the Marriott at Research Triangle Park, 4700 Guardian Drive, Durham, NC 27703, telephone: (919) 941-6200.

FOR FURTHER INFORMATION CONTACT: Any member of the public who wishes to submit a written or brief oral statement (five minutes or less) or wants further information concerning this meeting must contact Dr. Angela Nugent, Designated Federal Officer (DFO), EPA Science Advisory Board (1400F), U.S. Environmental Protection Agency, 1200 Pennsylvania Avenue, NW., Washington, DC 20460; via telephone/voice mail: (202) 343-9981; fax: (202) 233-0643; or e-mail at: nugent.angela@epa.gov. For information on the CASAC teleconference on June 11, 2008, please contact Mr. Fred Butterfield, Designated Federal Officer (DFO), at the above listed address, via telephone/voice mail: (202) 343-9994 or e-mail at: butterfield.fred@epa.gov. General information concerning the CASAC and the CASAC documents cited below can be found on the EPA Web site at: http://www.epa.gov/casac.

SUPPLEMENTARY INFORMATION: Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC is a Federal advisory committee chartered under the Federal Advisory Committee Act (FACA), as amended, 5 U.S.C., App. The Panel will comply with the provisions of FACA and all appropriate SAB Staff Office procedural policies.

Section 109(d)(1) of the CAA requires that the Agency periodically review and revise, as appropriate, the air quality criteria and the NAAQS for the six “criteria” air pollutants, including oxides of nitrogen (NOX). EPA is in the process of reviewing the primary NAAQS for nitrogen dioxide (NO2) as an indicator for NOX. Primary standards set limits to protect public health, including the health of “sensitive” populations such as asthmatics, children, and the elderly.

EPA previously released an integrated plan for all aspects of this review of the primary NO2 standard, Integrated Review Plan for the Primary National Ambient Air Quality Standard for Nitrogen Dioxide (August 2007), which reflected advice provided by CASAC through a consultation, which resulted in the CASAC letter, Scientific Advisory Committee's (CASAC) Consultation on the Draft Integrated Plans for Review of the Primary NAAQS for NO2 and SO2 EPA-CASAC-07-005. The CASAC also previously peer reviewed EPA's Integrated Science Assessment for Oxides of Nitrogen—Health Criteria (First External Review Draft) (EPA/600/R-07/093, August 2007) and issued a peer review report, Clean Air Scientific Advisory Committee's (CASAC) Peer Review of EPA's Integrated Science Assessment (ISA) for Oxides of Nitrogen—Health Criteria (First External Review Draft, August 2007), EPA-CASAC-08-002. The CASAC also provided consultative advice on the EPA's Nitrogen Dioxide Health Assessment Plan: Scope and Methods for Exposure and Risk Assessment and issued a consultation letter, Clean Air Scientific Advisory Committee's (CASAC) Consultation on EPA's Nitrogen Dioxide Health Assessment Plan: Scope and Methods for Exposure and Risk Assessment (September 2007 Draft), EPA-CASAC-08-001.

As the next step in that review process, EPA's Office of Research and Development (ORD) has completed a draft document, Integrated Science Assessment for Oxides of Nitrogen—Health Criteria (Second External Review Draft) (EPA/600/R-07/093aB and EPA/600/R-07/903bB, March 2008) and has requested that CASAC review the document. EPA's Office of Air and Radiation (OAR) has also completed two draft documents entitled (1) Risk and Exposure Assessment to Support the Review of the NO2 Primary National Ambient Air Quality Standard: First Draft and (2) Risk and Exposure Assessment to Support the Review of the NO2 Primary National Ambient Air Quality Standard: Draft Technical Support Document (TSD). OAR has requested that CASAC review this assessment of human exposure and health risk for nitrogen dioxide (NO2). After the panel has drafted its reports, the chartered CASAC will meet by conference call to review and approve the drafts.

Technical Contact: Any questions concerning EPA's Integrated Science Assessment for Oxides of Nitrogen—Health Criteria (Second External Review Draft) (EPA/600/R-07/093aB and EPA/600/R-07/903bB, March 2008) should be directed to Dr. Dennis Kotchmar, ORD (by telephone: (919) 541-4158, or e-mail: Kotchmar.dennis@epa.gov). Any questions concerning EPA's Risk and Exposure Assessment to Support the Review of the NO2 Primary National Ambient Air Quality Standard: First Draft and Risk and Exposure Assessment to Support the Review of the NO2 Primary National Ambient Air Quality Standard: Draft Technical Support Document (TSD) should be directed to Dr. Scott Jenkins, OAR (by telephone: (919) 541-1167, or e-mail: jenkins.scott@epa.gov).

Availability of Meeting Materials: EPA-ORD's Integrated Science Assessment for Oxides of Nitrogen—Health Criteria (Second External Review Draft) can be accessed on EPA's National Center for Environmental Assessment Web site at: http://cfpub.epa.gov/ncea/cfm/recordisplay.cfm?deid=189147. EPA-OAR's Risk and Exposure Assessment to Support the Review of the NO2 Primary National Ambient Air Quality Standard: First Draft and Risk and Exposure Assessment to Support the Review of the NO2 Primary National Ambient Air Quality Standard: Technical Support Document (TSD) will be accessible via the Agency's Office of Air Quality Planning and Standards Web site at: http://www.epa.gov/ttn/naaqs/standards/nox/s_nox_cr_rea.html. Agendas and materials in support of meeting and teleconference will be placed on the SAB Web site at: http://www.epa.gov/casac in advance.

Procedures for Providing Public Input: Interested members of the public may submit relevant written or oral information for the CASAC Panel to consider during the advisory process. Oral Statements: In general, individuals or groups requesting an oral presentation at a public meeting will be limited to five minutes per speaker, with no more than a total of one hour for all speakers. Interested parties should contact Dr. Angela Nugent, DFO, in writing (preferably via e-mail) by April 24, 2008 at the contact information noted above to be placed on the public speaker list for this meeting. To be placed on the public speaker list for the June 11, 2008 teleconference, interested parties should notify Mr. Fred Butterfield, DFO by e-mail no later than June 6, 2008. Oral presentations will be limited to a total of 30 minutes for all speakers.

Written Statements: Written statements for the public meeting should be received by Dr. Angela Nugent at the contact information above by April 24, 2008, so that the information may be made available to the Panel for their consideration prior to this meeting. Written statements for the teleconference should be received by Mr. Fred Butterfield, DFO by June 6, 2008. Written statements should be supplied to the appropriate DFO by June 6, 2008. Written statements should be supplied to the appropriate DFO in the following formats: One hard copy with original signature (optional), and one electronic copy via e-mail (acceptable file format: Adobe Acrobat PDF, MS Word, MS PowerPoint, or Rich Text files in IBM-PC/Windows 98/2000/XP format).

Accessibility: For information on access or services for individuals with disabilities, please contact Dr. Nugent at the phone number or e-mail address noted above, preferably at least ten days prior to the meeting, to give EPA as much time as possible to process your request.

Dated: April 7, 2008.
Anthony F. Maciorowski,
Deputy Director, EPA Science Advisory Board Staff Office.

[FR Doc. E8-7811 Filed 4-10-08; 8:45 am]

BILLING CODE 6560-50-P